NATIONAL AERONAUTICS AND SPACE ADMINISTRATION

[Notice 03-110]

Notice of Prospective Patent License

AGENCY: National Aeronautics and Space Administration.

ACTION: Notice of prospective patent license.

SUMMARY: NASA hereby gives notice that Carbon Therapeutics, Inc., of Palo Alto, CA has applied for an exclusive license to practice the invention contained in the pending patent application corresponding to NASA Case Number ARC-15088-1, entitled “Provision of Carbon Nanotube Bucky Paper Cages for Immune Shielding of Cells, Tissues, and Medical Devices,” which is assigned to the United States of America as represented by the Administrator of the National Aeronautics and Space Administration. Written objections to the prospective grant of a license should be sent to Ames Research Center.

DATES: Responses to this notice must be received by October 15, 2003.

FOR FURTHER INFORMATION CONTACT: Robert Padilla, Chief Patent Counsel, NASA Ames Research Center, M/S 202A-4, Moffett Field, CA 94035-1000, 650-604-5104.

Dated: September 8, 2003.
Robert M. Stephens,
Deputy General Counsel.

[FR Doc. 03-23497 Filed 9-12-03; 8:45 am]

BILLING CODE 7510-01-P